SECURITIES AND EXCHANGE COMMISSION

[File No. 500-1]

Aclor International, Inc., Acrongenomics, Inc., Diversified Global Holdings Group, Inc., FutureIT, Inc., Southern Star Energy, Inc., and W Holding Co., Inc.; Order of Suspension of Trading

April 1, 2014.

It appears to the Securities and Exchange Commission that there is a lack of current and accurate information concerning the securities of Aclor International, Inc. because it has not filed any periodic reports since it filed a Form 10 registration statement on December 1, 2011.

It appears to the Securities and Exchange Commission that there is a lack of current and accurate information concerning the securities of Acrongenomics, Inc. because it has not filed any periodic reports since the period ended June 30, 2011.

It appears to the Securities and Exchange Commission that there is a lack of current and accurate information concerning the securities of Diversified Global Holdings Group, Inc. because it has not filed any periodic reports since the period ended September 30, 2011.

It appears to the Securities and Exchange Commission that there is a lack of current and accurate information concerning the securities of FutureIT, Inc. because it has not filed any periodic reports since the period ended September 30, 2009.

It appears to the Securities and Exchange Commission that there is a lack of current and accurate information concerning the securities of Southern Star Energy, Inc. because it has not filed any periodic reports since the period ended November 30, 2009.

It appears to the Securities and Exchange Commission that there is a lack of current and accurate information concerning the securities of W Holding Co., Inc. because it has not filed any periodic reports since the period ended September 30, 2009.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on April 1, 2014, through 11:59 p.m. EDT on April 14, 2014.

By the Commission.
Jill M. Peterson,
Assistant Secretary.

[FR Doc. 2014-07523 Filed 4-1-14; 4:15 pm]

BILLING CODE 8011-01-P